DEPARTMENT OF HEALTH AND HUMAN SERVICES

Office of the Secretary

Findings of Research Misconduct

AGENCY: Office of the Secretary, HHS.

ACTION: Notice.

SUMMARY: Notice is hereby given that the Office of Research Integrity (ORI) and the Assistant Secretary for Health have taken final action in the following case:

Nima Afshar, PhD., University of California, San Francisco: Based on a University of California, San Francisco (UCSF) report and Respondent's own admission, the U.S. Public Health Service (PHS) found that Dr. Nima Afshar, former postdoctoral fellow at UCSF engaged in research misconduct in research supported by National Cancer Institute (NCI), National Institutes of Health (NIH), grant T32 CA108462 and National Institute of General Medical Sciences (NIGMS), NIH, grant R01 GM59704.

PHS found that Respondent engaged in research misconduct in the performance of research on yeast to test whether disruption of the tight controls, to prevent re-replication, on the initiation of DNA replication could produce gene amplifications with a copy number greater than two (2).

Specifically, Respondent falsified files containing raw scanned microarray images from another researcher's experiments to demonstrate that in experiments that she claimed to have conducted, she successfully observed gene amplifications with a copy number greater than two (2); there were 36 such instances of falsifying data files.

Dr. Afshar has entered into a Voluntary Settlement Agreement in which she has voluntarily agreed, for a period of three (3) years, beginning on December 22, 2008:

(1) To exclude herself from serving in any advisory capacity to PHS, including but not limited to service on any PHS advisory committee, board, and/or peer review committee, or as a consultant; and

(2) that any institution that submits an application for PHS support for a research project on which the Respondent's participation is proposed or that uses the Respondent in any capacity on PHS supported research, or that submits a report of PHS-funded research in which the Respondent is involved, must concurrently submit a plan for supervision of the Respondent's duties to the funding agency for approval. The supervisory plan must be designed to ensure the scientific integrity of the Respondent's research contribution. Respondent agrees to ensure that a copy of the supervisory plan also is submitted to ORI by the institution for ORI approval. Respondent agrees that she will not participate in any PHS-supported research until such a supervisory plan is submitted to ORI.

FOR FURTHER INFORMATION CONTACT: Director, Division of Investigative Oversight, Office of Research Integrity, 1101 Wootton Parkway, Suite 750, Rockville, MD 20852, (240) 453-8800.

John E. Dahlberg,
Acting Director, Office of Research Integrity.

[FR Doc. E9-1819 Filed 1-28-09; 8:45 am]

BILLING CODE 4150-31-P